DEPARTMENT OF HEALTH AND HUMAN SERVICES

Centers for Disease Control and Prevention

[Program Announcement 01010]

Pregnancy Risk Assessment Monitoring System; Notice of Availability of Funds

A. Purpose

The Centers for Disease Control and Prevention (CDC) announces the availability of fiscal year (FY) 2001 funds for a cooperative agreement program for a Pregnancy Risk Assessment Monitoring System (PRAMS) program. CDC is committed to achieving the health promotion and disease prevention objectives of “Healthy People 2010,” a national activity to reduce morbidity and mortality and improve the quality of life. This announcement is related to the focus area of Maternal, Infant, and Child Health. For the conference copy of “Healthy People 2010,” visit the Internet site: www.health.gov/healthypeople.

The purpose of the program is to assist State public health agencies in generating State-specific data for informing perinatal health programs and policies. This will be accomplished by assisting the State public health agencies to (1) establish or maintain State-specific, population-based surveillance of selected maternal behaviors and experiences that occur around the time of pregnancy and early infancy, (2) enhance the basic PRAMS surveillance system in order to more effectively reach special or related populations which are typically considered hard-to-reach populations, and (3) to implement alternative methodologies for surveying women about selected maternal behaviors and experiences. This announcement includes three separate categories:

Category A (Core Activities): To establish or maintain State-specific population-based surveillance of selected maternal behaviors and experiences that occur around the time of pregnancy and early infancy.

Category B (Enhanced Activities): To enhance regular PRAMS surveillance to reach special population groups, to test new data collection or analytic methodologies related to pregnancy or infant health, or to gather additional information on specific topics from women or others. Category B funds cannot be used for ongoing sampling from data sources other than vital records.

1. Special or related population groups: Special populations may include teenagers, groups with low response rates, cultural groups, women whose first language is something other than English, low-income women, women from urban or rural areas, or incarcerated women. Related populations could include follow-up of women who have experienced a fetal death and women with children less than 5 years of age. Special or related populations to be considered for ongoing surveillance must be identifiable for sampling from vital records.

2. New data collection or analytic methodologies: Methodologies that might enhance regular PRAMS mail/telephone data collection could include in-person interviews, additional mail and telephone follow-up with in-person interviews, Internet-administered surveys, or use of community health workers or an organization (e.g., church, civic, cultural groups) to deliver the surveys. Methodologies that might enhance analytic capacity could include conducting small area analysis or GIS (Geographic Information Science), testing the validity and reliability of measures, or performing linkages with other data sets that focus on maternal and infant health issues (e.g., Medicaid data, WIC (Women, Infant, and Children) data, databases with potential contact information for pregnant women).

3. Specific topics: Special surveys focusing on specific topics or specific populations might include in-depth surveys of the PRAMS sample on a time-limited basis (e.g., additional detailed questions on a specific topic added to existing an questionnaire) or special surveys of other populations on topics related to PRAMS (e.g., prenatal care providers, hospitals, health insurance providers).

Category C (Alternative Methodologies): To implement one time (point-in-time) surveys for State-specific, population-based surveillance of selected maternal behaviors and experiences that occur around the time of pregnancy and early infancy.

B. Eligible Applicants

Applicants may apply for core activities (Category A), either as an existing grantee or as a new grantee, or they may apply for alternative methodologies (Category C). In order to apply for enhanced activities (Category B), applicants must also apply for and receive Category A funding. A separate narrative must be provided for each category for which an applicant applies. Applications in each category will be evaluated separately.

For Category A (Core Activities): Assistance will be provided only to the official State or territorial public health agencies designated as registration areas for vital statistics, including the District of Columbia, the Commonwealth of Puerto Rico, the Virgin Islands, the Commonwealth of the Northern Mariana Islands, American Samoa, Guam, the Federated States of Micronesia, the Republic of the Marshall Islands, and the Republic of Palau.

Applicants can apply for Category A funds, either as an existing or new state.

Existing PRAMS States are States that are funded under program announcement 96059 or 99070. These are: Alabama, Alaska, Arkansas, Colorado, Delaware, Florida, Georgia, Hawaii, Illinois, Louisiana, Maine, Maryland, Mississippi, Nebraska, New Mexico, New York State, New York City, North Carolina, Ohio, Oklahoma, South Carolina, Utah, Vermont, Washington, and West Virginia. All other States must apply as a new State.

All applicants for Category A must provide the following evidence of support letters:

1. Written assurance, signed by the head of the State's Vital Statistics unit, that:

a. the recipient PRAMS program will have timely (i.e., able to draw a sample from birth certificates within 2 to 4 months after delivery) access to edited birth certificate information needed for sampling and data collection,

b. the recipient program will identify and commit a person from the Vital Statistics unit to act as a liaison to the PRAMS program to develop and maintain the sampling program and make any modifications needed throughout the life of the program,

c. final birth tape will be available by December 1 of the following data year for the purpose of weighting the annual data set, and,

d. any changes in the vital statistics system, such as with file layouts, will be communicated in writing to the recipient PRAMS program in a timely fashion, as it can affect the monthly sampling process.

2. A joint letter of commitment from the State Directors of the Maternal and Child Health (MCH), the Vital Statistics, and the Data Processing units, that they will work collaboratively to support the PRAMS program. This letter should specify evidence of past collaboration among these groups and identify which unit will be the lead in implementing the PRAMS program and what roles each unit will play.

For Category B (Enhanced Activities): Assistance will be provided only to applicants funded under Category A. All applicants for Category B must provide:

1. Written assurance from all potential data sources that the applicant's project will have access to the needed data for conducting the enhanced activities.

2. A joint letter of commitment from all the units participating in the core PRAMS activities and the enhanced activities that they will work together to support the enhanced activities.

For Category C (Alternative Methodologies): Assistance will be provided to the official State or territorial public health agencies. In addition, Federally recognized Indian tribal governments with more than 1,000 births per year may apply if the population to be surveyed does not reside in a State or territory with an existing PRAMS project. Tribal applications must include co-investigators from the State or territorial health departments providing vital statistics data. Tribes located within States with existing PRAMS projects should work with the State's health department to develop a category A or B proposal to sample tribal women.

In Category C, a State, territory or tribal government may propose to include other States, territories, or tribes. Throughout this document for Category C, the term “State” is used to define any State, territory, or tribe that meets the eligibility requirements.

Applicants that apply for Category C can not apply for Category A or Category B. Category C is an opportunity for States or territories that want to collect population-based data but not on an on-going basis.

All applicants for Category C must provide the following evidence of support letters:

1. Written assurance, signed by the head of the State's Vital Statistics unit, that:

a. the recipient PRAMS program will have timely (i.e., able to draw a sample from birth certificates within 2 to 4 months after delivery) access to edited birth certificate information needed for sampling and data collection,

b. the recipient program will identify and commit a person from the Vital Statistics unit to act as a liaison to the PRAMS program to develop and maintain the sampling program and make any modifications needed throughout the life of the program.

2. A joint letter of commitment from the State Directors of the Maternal and Child Health (MCH), the Vital Statistics, and the Data Processing units, that they will work collaboratively to support the PRAMS program. This letter should describe past collaboration among these groups, specify which unit will be the lead in implementing the PRAMS program, and define the roles each unit will play.

In Category C applications, projects that span more than one State or territory must provide letters from each State and territory involved.

C. Availability of Funds

For Category A (New States): Approximately $1,500,000 is available in FY 2001 to fund approximately 8-12 awards. It is expected that the average award will be $150,000, ranging from $75,000 to $175,000. It is expected that the awards will begin on or about April 1, 2001, and will be made for a 12-month budget period within a project period of up to 5 years. Funding estimates may change.

For Category A (Existing States): Approximately $3,750,000 is available in FY 2001 to fund approximately 25 awards. It is expected that the average award will be $150,000, ranging from $75,000 to $175,000. It is expected that the awards will begin on or about April 1, 2001, and will be made for a 12-month budget period within a project period of up to 5 years. Funding estimates may change.

For Category B (New or Existing States): Approximately $2,500,000 is available in FY 2001 to fund approximately 5 awards. It is expected that the average award will be $500,000, ranging from $175,000 to $750,000. It is expected that the awards will begin on or about April 1, 2001, and will be made for a 12-month budget period within a project period of up to 3 years. Funding estimates may change.

For Category C: Approximately $500,000 is available in FY 2001 to fund approximately 5 awards. It is expected that the average award will be $100,000, ranging from $75,000 to $125,000. It is expected that the awards will begin on or about April 1, 2001, and will be made for a 12-month budget period within a project period of up to 3 years. Funding estimates may change.

Continuation awards within an approved project period will be made on the basis of satisfactory progress as evidenced by required reports and the availability of funds.

Use of Funds

Funds awarded under this program may not be used to supplant existing program efforts funded through other Federal or non-Federal sources.

Recipient Financial Participation

CDC funding covers some costs for PRAMS but it is not intended to fully support all aspects of the program. Current recipients contribute their own resources to PRAMS—mostly in the form of operational resources and staff support.

D. Program Requirements

Program Requirements are described separately for each category.

All recipients for Category B must obtain review and approval from an Office for Human Research Protection (OHRP)-approved Institutional Review Board (IRB). No data collection may begin until the provisions of 45 CFR 46, Protection of Human Subjects, have been met (See “Other Requirements” section below). Each project will be reviewed by CDC's IRB.

In conducting activities to achieve the purpose of this program, the recipient will be responsible for the activities under 1, (Recipient Activities), and CDC will be responsible for the activities listed under 2, (CDC Activities).

For Category A (Core Activities, New States):

1. Recipient Activities:

a. Adopt the standard PRAMS written protocol.

b. Identify appropriate staff dedicated to overall coordination and operations of PRAMS. Also identify a person in Vital Records indicating the percentage of their time dedicated to assuring the sampling procedures.

c. Form a steering committee consisting of representatives from the organizational units housing and collaborating on PRAMS, as well as other public and private health community representatives. The committee should provide oversight and set directions for the program and serve in an advocacy role promoting the use of PRAMS findings. At a minimum, this group will meet once per year.

d. Assure active cooperation and collaboration among the participating organizational units such as MCH, Vital Records, and Data Processing units.

e. Design a State-wide PRAMS program that assures access to needed vital record information. Timely (able to draw a sample from birth certificates within 2 to 4 months after delivery) access to birth certificates is essential.

f. Prepare State-specific questions and their rationale and pretest the questionnaire, if needed. Collaborate to revise the common questions at agreed-upon intervals.

g. Define the study population and design and maintain a representative PRAMS sample.

h. Develop a cycle of sampling and data collection in accordance with the protocol and PRAMS software.

i. Train interviewers to conduct telephone interviewing in accordance with PRAMS standards for phone interviewing and ensure that they follow the standard PRAMS protocol.

j. Develop, maintain, and make available, using the standardized PRAMS protocol, electronic files on birth certificate information of the sampling frame and of sampled women, data collection activities, and questionnaire data on a timely basis for data management, i.e., sampling, cleaning, and weighting.

k. Monitor, at least monthly, the quality of data collected and its management (through verification and validation efforts).

l. Develop and implement an analysis plan, including potential partners and collaborators in and outside of the health departments. The analysis plan should be updated annually.

m. Collaborate on multi-State analyses combining or comparing data across PRAMS States.

n. Disseminate PRAMS findings through presentations and publications to health departments, professional societies, voluntary agencies, universities, other PRAMS States, and other interested individuals and organizations.

o. Share program translation and dissemination material and products and examples of how the data have been used to affect programs and policy.

p. Participate in training, workshops, meetings, and advisory committees at least once per year.

q. Assure that a final birth tape is available by December 1 of the following data year. The birth tape is needed for weighting the annual data set which is returned to the State for analyses.

2. CDC Activities:

a. Provide model protocol and assist with development of State-specific written protocols.

b. Assist the recipient agencies with development and revisions of State-specific questions and core questions for States.

c. Provide program software, training, and ongoing technical support for operations management, questionnaire data entry, and development of the PRAMS analysis database.

d. Assist with the specification of variable descriptions and format layouts of all data files.

e. Provide technical assistance for data editing.

f. Assist with the development of computer programs for sampling.

g. Provide technical assistance to resolve problems in data collection procedures, response rates, sampling procedures (unbiased sampling and estimate omissions), and database files (completeness).

h. Assist in the development of annual weighted analysis data sets for recipient agencies, including developing statistical weights.

i. Assist recipient agency staff in obtaining training in sample survey analysis software.

j. Provide recipients with epidemiological and statistical technical assistance.

k. Conduct multi-State and single-State analyses, in collaboration with the States, and facilitate dissemination and translation of findings.

l. Participate with recipient agencies in workshops, training, meetings, and advisory committees to exchange information among States.

m. Establish and maintain a PRAMS advisory committee comprised of all recipients to promote exchange of information.

For Category A (Core Activities, Existing States):

1. Recipient Activities:

a. Review operational components to assure concordance with standard PRAMS written protocol. Adapt the State-specific portions of the written protocol to meet State needs.

b. Maintain a State-wide PRAMS program that assures access to needed vital record information. Timely (able to draw a sample from birth certificates within 2 to 4 months after delivery) access to birth certificates is essential.

c. Maintain a prescribed cycle of sampling and data collection in accordance with the PRAMS written protocol.

d. Use the PRAMS standard software for the operational components of the program.

e. Select the State-specific questions and their rationale and pretest the questionnaire, if needed. With other participating States, revise the common questions at agreed-upon intervals.

f. Maintain and make available, using the standardized PRAMS protocol, electronic files on birth certificate information of the sampling frame, and of sampled women, data collection activities, and questionnaire data on a timely basis for data management, i.e., sampling, cleaning, and weighting.

g. Conduct an annual sampling evaluation and adjustment of the sample to ensure it is representative of the study population.

h. Maintain a Steering Committee consisting of representatives from organizational units housing and collaborating on PRAMS, as well as other public and private health community representatives. The committee should provide oversight and set directions for the program as well as serve in an advocate role promoting the use of PRAMS findings. At a minimum, this group will meet once per year.

i. Assure appropriate staff dedicated to overall coordination and operations of PRAMS. Also specify a person in Vital Records indicating the percentage of their time dedicated to assuring the sampling procedures.

j. Assure active cooperation and collaboration among the participating organizational units such as MCH, Vital Records, and Data Processing units.

k. Monitor, at least monthly, the quality of data collected and its management (through verification and validation efforts).

l. Train interviewers to conduct telephone interviewing in accordance with PRAMS standards for phone interviewing and ensure that they follow the standard PRAMS protocol.

m. Develop and implement an analysis plan including potential partners and collaborators in and outside of the health departments. Update the analysis plan annually.

n. Collaborate on multi-State analyses combining or comparing data across PRAMS States.

o. Disseminate PRAMS findings through presentations and publications to health departments, professional societies, voluntary agencies, universities, other PRAMS States, and other interested individuals and organizations.

p. Share examples of dissemination products and examples of how the data have been used to affect programs and policy.

q. Participate with other States in training, workshops, meetings, and advisory committees at least once per year.

r. Assure that a final birth tape is available by December 1 of the following data year. The birth tape is needed for weighting the annual data set for analyses.

2. CDC Activities:

a. Provide model PRAMS protocol and assist with development of State-specific written protocols.

b. Assist the recipient agencies with development and revisions of State-specific questions and core questions for new States.

c. Provide program software, training, and ongoing technical support for operations management, questionnaire data entry, and development of the PRAMS analysis database.

d. Assist with the specification of variable descriptions and format layouts of all data files.

e. Provide technical assistance for data editing.

f. Assist with the development of computer programs for sampling.

g. Provide technical assistance to resolve problems in data collection procedures, response rates, sampling procedures (unbiased sampling and estimate omissions), and database files (completeness).

h. Assist in the development of annual weighted analysis data sets for recipient agencies, including developing statistical weights.

i. Assist recipient agency staff in obtaining training in sample survey analysis software.

j. Provide recipients with epidemiological and statistical technical assistance.

k. Conduct multi-State and single-State analyses, in collaboration with the States, and facilitate dissemination and translation of findings.

l. Participate with recipient agencies in workshops, training, meetings, and advisory committees to exchange information among States.

m. Establish and maintain a PRAMS advisory committee comprised of all recipients to promote exchange of information.

For Category B (Enhanced Activities):

1. Recipient Activities:

a. Develop a written protocol that includes a plan for staffing, sampling, design, methodology, analyses, and dissemination and translation of data.

b. Identify special features that distinguish the enhanced activities from the core activities and describe their impact on the core activities, assuring that the integrity of the core PRAMS activities is maintained.

c. Acquire resources and technical assistance to carry out the enhanced activities including staff, software, data systems, and analytic expertise, as needed.

d. Assure active cooperation and collaboration among all units involved with the core PRAMS activities and the enhanced activities.

e. Identify and assure access to all needed sources of data.

f. Form a special advisory committee to advise and oversee the enhanced activities. This group should include representatives from the core PRAMS project.

g. Define the study population and sampling design.

h. Prepare the data collection instruments, if needed.

i. Carry out data collection in accordance with the written protocol for the enhanced activities.

j. Train interviewers and assure that they follow the written protocol for enhanced activities.

k. Develop, maintain, clean, and edit electronic files with information on the sampling frame, sampled women, data collection activities, and questionnaire data.

l. Monitor, at least monthly, the quality of data collected and its management (through verification and validation efforts).

m. Develop and implement an analysis, dissemination, and translation plan for the enhanced activities including potential partners and collaborators in and outside the health department.

n. Disseminate PRAMS findings through multiple sources such as presentations, publications, and special training.

o. Provide examples of how, through the enhanced activities, the program has been able to translate findings in order to influence policy and programs for special populations.

p. Summarize and evaluate the enhanced activities and share widely.

q. Collaborate with other States on multi-State projects.

2. CDC Activities:

a. Review and provide recommendations on the protocol for the enhanced activities, including staffing, sample design, methodology, analyses, and dissemination and translation of data.

b. Review the impact of the enhanced activities on the core PRAMS activities.

c. Provide technical assistance to resolve issues that arise in performing the enhanced activities.

d. Provide recipients with epidemiological and statistical technical assistance.

e. Collaborate on analytic projects that summarize the multi-State efforts to carry out enhanced activities to reach special populations through alternative methodologies.

f. Provide a forum for recipient agencies to exchange information from their enhanced activities.

g. Assist in the development of a research protocol for IRB review by all cooperating institutions participating in the research project.

h. The CDC IRB will review and approve the protocol initially and on at least an annual basis until the research project is completed.

For Category C (Alternative Methodologies):

1. Recipient Activities:

a. Adopt the standard PRAMS written protocol for one time (point-in-time) surveys.

b. Identify appropriate staff dedicated to overall coordination and implementation of PRAMS, analytic staff, and support staff for the actual survey period. Also specify a person in Vital Records in each involved registration area responsible for assuring the sampling procedures.

c. Form an Advisory Committee consisting of representatives from the organizational units collaborating on PRAMS, as well as other public and private health community representatives. The committee should provide oversight and set directions for the program as well as serve in an advocacy role promoting the use of PRAMS findings. At a minimum, this group will meet once per year.

d. Assure active cooperation and collaboration for all recipient areas among the participating organizational units such as MCH, Vital Records, and Data Processing units.

e. Design a State-wide PRAMS survey that assures access to needed vital records information. Timely (able to draw a sample from birth certificates within 2 to 4 months after delivery) access to birth certificates is essential.

f. Prepare State-specific questions and their rationale and pretest the questionnaire, if needed.

g. Define the study population and design and select a representative PRAMS sample.

h. Develop a cycle of sampling and data collection in accordance with the protocol and PRAMS software during the survey period.

i. Train interviewers to conduct telephone interviewing in accordance with PRAMS standards for phone interviewing and ensure that they follow the standard PRAMS protocol.

j. Develop, maintain, and make available, using the standardized PRAMS protocol, electronic files on birth certificate information of the sampling frame, and of sampled women, data collection activities, and questionnaire data on a timely basis for data management, i.e., sampling, cleaning, and weighting.

k. Monitor the quality of data collected and its management (through verification and validation efforts).

l. Develop and implement an analysis plan including potential partners and collaborators in and outside of the health departments.

m. Collaborate on multi-State analyses combining or comparing data across PRAMS States.

n. Disseminate PRAMS findings through presentations and publications to health departments, professional societies, voluntary agencies, universities, other PRAMS States, and other interested individuals and organizations.

o. Share examples of dissemination products and examples of how the data have been used to affect programs and policy.

p. Participate with other States in training, workshops, meetings, and advisory committees at least once per year.

q. Provide a final birth tape covering the survey period by December 1 of the year following the data year. The birth tape is needed to check for adequate coverage of the sampling frame.

2. CDC Activities:

a. Provide model PRAMS protocol and assist with development of State-or area-specific written protocols.

b. Assist the recipients with development of State-specific questions.

c. Provide program software, training, and technical support for operations management, questionnaire data entry, and development of the PRAMS analysis database.

d. Assist with the specification of variable descriptions and format layouts of all data files.

e. Provide technical assistance for data editing.

f. Assist with the development of computer programs for sampling.

g. Provide technical assistance to resolve problems regarding data collection procedures.

h. Assist in the development of a weighted analysis data set for recipient agencies, including developing statistical weights.

i. Assist recipient agency staff in obtaining training in sample survey analysis software.

j. Provide recipients with epidemiological and statistical technical assistance.

k. Conduct multi-State and single-State analyses, in collaboration with the State, and facilitate dissemination and translation of findings.

l. Participate with recipient agencies in workshops, training, meetings, and advisory committees to exchange information among States.

m. Establish and maintain a PRAMS advisory committee comprised of all recipients to promote exchange of information.

R. Application Content

Use the information in the Program Requirements, Other Requirements, and Evaluation Criteria sections to develop the application content. Your application will be evaluated on the criteria listed, so it is important to follow them in laying out your program plan. Provide a separate narrative for each of the Categories (A, B, and C). Each narrative should be no more than 30 double-spaced pages, printed on one side, with one inch margins, and unreduced (12 CPI)font.

For Category A (Core Activities, New States):

1. Background and Need:

a. Describe the composition of the birth population, giving the numbers of overall births and births in each sub-population of interest. Describe the scope and severity of the problems of poor pregnancy outcomes, including infant mortality, low birth weight, and related risk factors such as inadequate prenatal care or unintended pregnancy. This may apply on a Statewide basis or to high risk sub-populations in defined geographical areas and may be assessed in relation to relevant national rates, Maternal and Child Health Bureau indicators, or the “Healthy People 2010 Objectives”.

b. Describe the reproductive health and maternal and child health priorities for the State and how PRAMS data can be integrated into the State's activities to address those priorities.

c. Identify gaps in needed information concerning adverse pregnancy and infant outcomes, pregnancy and infant risk factors, and provide a description of how PRAMS data may be used to fill these gaps.

d. Describe how data from PRAMS will complement the analyses of vital records by increasing understanding of previously identified maternal and infant health problems and identifying new problems.

2. Profile of State Birth Registration Process:

a. Describe, in detail, the State process for registering births, to include each step from collection of information at the birth site, having an initial computerized file (the sampling frame from which the PRAMS sample will be drawn), and having a clean, edited file from which other information can be drawn. Present a time line for the cleaning of critical variables, such as name, address, and date of birth. Document that the sample could be drawn from birth certificate information within 2 to 4 months after the date of birth. Describe any validity and reliability studies that have been conducted on birth certificate data.

b. Describe the schedule on which vital records information (frame files and end-of-year birth files, such as NCHS standard birth files) will be available.

c. Describe the extent to which you can link birth certificate data to other data sources, e.g., infant deaths, Supplemental Nutrition Program for Women, Infants, and Children (WIC), Medicaid.

d. Describe any State laws or policies that place restrictions on the release of vital records data for research purposes and indicate the impact of these laws or policies on PRAMS.

e. Describe any plans for dealing with the upcoming revision of the birth certificate.

3. Plan of Operation:

a. Describe how and when the major project components, such as sampling, mail and telephone operations, data analysis, staffing plan, protocol development, steering committee, will be developed and implemented.

b. Provide any available data that describe the extent to which the data collection approach is likely to produce adequate response rates among the sampled population, including high-risk sub-populations. Provide examples of previous surveys, including past experiences with PRAMS or other data collection activities, and the response rates in the proposed populations. Describe and provide for the inclusion of women, racial, and ethnic minority populations in the proposed project to include:

(1) The proposed plan for the inclusion of women, racial, and ethnic minority populations for appropriate representations.

(1) The proposed justification when representation is limited or absent.

(3) A statement whether the design of the study is adequate to measure differences when warranted.

(4) A statement whether the plans for recruitment and outreach for study participants include the process of establishing partnerships with communities and recognition of mutual benefits.

c. Describe the roles, responsibilities, and supervision of key personnel who will be contributing to the PRAMS program during the next budget period.

d. Document, with curriculum vitae, the relevant expertise and experience of proposed personnel involved in PRAMS program direction, operational management, and data analysis and dissemination, and their placement within the organization. It is strongly recommended that a minimum of two full-time equivalents at the State level be committed to working on daily operations and coordination of PRAMS.

e. Describe the specific roles and responsibilities of participating organizational units, such as MCH, vital records, and data processing units. Provide an organizational chart that shows the location of units that participate in PRAMS.

f. Describe a plan for data analysis that integrates the MCH priorities previously identified that can be addressed by PRAMS.

g. Describe how findings from PRAMS analyses will be disseminated through various channels, including steering committee members, health policy makers, and health providers and translated into public health action. Describe existing partnerships and how findings from previous studies have been disseminated. Identify future partnerships for dissemination and translation activities.

4. Timetable:

Provide a general time-line of major milestones for the project period and a schedule of activities for the first 12 months of the project period.

5. Budget:

Provide a detailed budget and line-item justification of all operating expenses that are consistent with the planned activities of the project. The budget should also address funds requested, as well as in-kind or direct support. Indicate if funds are already committed to PRAMS and adjust the amount requested under this announcement accordingly.

For Category A (Core Activities, Existing States):

1. Background and Need:

a. Describe the composition of the birth population giving the numbers of overall births and births in each sub-population of interest. Describe the scope and severity of the problems of poor pregnancy outcomes, including infant mortality, low birth weight, and related risk factors such as inadequate prenatal care or unintended pregnancy. This may apply on a Statewide basis or to high risk sub-populations in defined geographical areas and may be assessed in relationship to relevant national rates, Maternal and Child Health Bureau indicators, or the “Healthy People 2010 Objectives.”

b. Describe the reproductive health and maternal and child health priorities for your State and how PRAMS data can be integrated into your State's activities to address those priorities.

c. Identify gaps in needed information concerning adverse pregnancy and infant outcomes, pregnancy and infant risk factors, and describe how PRAMS data can be used to fill these gaps.

d. Describe how data from PRAMS will complement the analyses of vital records by increasing understanding of previously identified maternal and infant health problems and identifying new problems.

2. Capacity:

Note: States that have been in PRAMS for less than 2 years may not be able to report on certain elements in this section. If you have been in PRAMS for less than 2 years, focus on process and implementation issues and indicate where you are not able to comment on a section because of lack of data.

a. Describe progress to date in implementing PRAMS operational activities, including sampling, data collection, and data management; and any barriers that precluded complete and successful implementation of the project, e.g., sources of contact information or staffing patterns.

b. Document the staffing pattern for the project over the last 2 years and any impact of that pattern on the project.

c. Identify and describe the State staff who contribute to the PRAMS project (project coordinator, data manager, data analyst, vital records contact, and other PRAMS participants), including their roles, the proportion of their time spent on PRAMS, and a summary of their activities and accomplishments during the last funding period.

d. Document PRAMS response rates, overall and by stratification variables (70 percent is considered a minimum level of response) for the last 12 months.

e. Document the extent to which PRAMS data are available for analysis and have been analyzed.

f. Describe the extent to which PRAMS data have been used for program planning, policy development, and resource allocation. Provide specific examples of dissemination and translation of PRAMS data and existing partners in these efforts.

g. Describe data linkages that have been accomplished between PRAMS and other data sources and identify how the linked data sets have been used.

3. Profile of State Birth Registration Process:

a. Summarize the State process for registering births. Include each step from collection of information at the birth site, having an initial computerized file (the sampling frame from which the PRAMS sample will be drawn), and having a clean, edited file from which other information can be drawn. Present a time line for the cleaning of critical variables, such as name, address, and date of birth. Document that the sample could be drawn from birth certificate information within 2 to 4 months after the date of birth. Describe any validity and reliability studies that have been conducted on birth certificate data.

b. Describe the schedule on which vital records information (frame files and end-of-year birth files, such as NCHS standard birth files) will be available. These files are used to assist the State with evaluation of the sample and weighting the data.

c. Describe the extent to which you can link birth certificate data to other data sources, e.g., infant deaths, Supplemental Nutrition Program for Women, Infants, and Children (WIC), Medicaid.

d. Describe any State laws or policies that place restrictions on the release of vital records data for research purposes and indicate the impact of these laws or policies on PRAMS.

e. Describe any plans for dealing with the upcoming revision of the birth certificate.

4. Plan of Operation:

a. Describe how and when major project components (sampling, mail and telephone operations, data analysis) are carried out and any proposed changes for the next budget period.

b. Provide any available data that describe the extent to which the data collection approach is likely to produce adequate response rates among the sampled population, including high-risk sub-populations. Provide examples of previous surveys, especially past experiences with PRAMS or other data collection activities, and their response rates in the proposed populations. Describe and provide for the inclusion of women, racial, and ethnic minority populations in the proposed research to include:

(1) The proposed plan for the inclusion of women, racial, and ethnic minority populations for appropriate representations.

(2) The proposed justification when representation is limited or absent.

(3) A statement whether the design of the study is adequate to measure differences when warranted.

(4) A statement whether the plans for recruitment and outreach for study participants include the process of establishing partnerships with communities and recognition of mutual benefits.

c. Describe the roles and responsibilities of key personnel who will be contributing to the PRAMS program during the next budget period.

d. Document, with curriculum vitae, the relevant expertise and experience of key personnel involved in PRAMS program direction, operational management, data analysis and dissemination, and their placement within the organization. It is suggested that a minimum of two full-time equivalents at the State level be committed to working on daily operations and coordination of PRAMS.

e. Describe the specific roles and responsibilities of participating organizational units, such as MCH, vital records, and data processing units. Provide an organizational chart that shows the location of units participating in PRAMS.

f. Describe a plan for data analysis that integrates the MCH priorities previously identified that can be addressed by PRAMS.

g. Describe how findings from PRAMS analyses will be disseminated through various channels, including steering committee members, health policy makers, and health providers and translated into public health action. Identify future partnerships for dissemination and translation activities.

5. Timetable:

Submit a general time-line of major milestones for the project period and a schedule of activities for the first 12 months of the project period.

6. Budget:

Provide a detailed budget and line-item justification of all operating expenses that is consistent with the planned activities of the project. Address funds requested, as well as in-kind or direct support.

For Category B (Enhanced Activities):

1. Background and Need:

a. Describe the rationale for conducting the enhanced activities.

b. Describe the maternal and child health priorities for your State indicating how the enhanced activities can be integrated into your State's efforts to address those priorities.

c. Describe how the information gained by the enhanced activities may be used for health program planning, policy development, and resource allocation.

2. Plan of Operation:

a. Describe how the major program components of the enhanced activities (such as staffing, sample design, methodology, data analysis, data dissemination and translation, and advisory committee) will be developed and implemented.

b. Describe special features that distinguish the enhanced activities from the core activities and describe their impact on the core activities, assuring that the integrity of the core PRAMS is maintained.

c. Describe how resources and technical assistance (including staff, software, data systems, and analytic expertise) needed to carry out the enhanced activities will be obtained.

d. Describe the study population and provide for the inclusion of women, racial, and ethnic minority populations in the proposed research to include:

(1) The proposed plan for the inclusion of women, racial, and ethnic minority populations for appropriate representations.

(2) The proposed justification when representation is limited or absent.

(3) A statement whether the design of the study is adequate to measure differences when warranted.

(4) A statement whether the plans for recruitment and outreach for study participants include the process of establishing partnerships with communities and recognition of mutual benefits.

e. Describe all phases of the data collection process, identifying the data collection instruments, data sources, persons responsible for collecting data, and the steps involved.

f. Describe the plan for obtaining resources and expertise to carry out the enhanced activities.

g. Describe how all units involved with the core PRAMS activities and the enhanced activities will cooperate and collaborate.

h. Describe the composition and function of the advisory committee that will advise and oversee the enhanced activities.

i. Describe the roles, responsibilities, and supervision of key personnel who will be contributing to the enhanced activities during the duration of the project. Document the relevant expertise and experience of proposed personnel involved in enhanced activities, and their placement within the organization.

j. Describe the specific roles and responsibilities of any additional participating organizational units or groups.

k. Describe a plan for data analysis that integrates the MCH priorities for the targeted special populations.

l. Describe how findings from PRAMS analyses will be disseminated through various channels and translated into public health actions.

3. Applicability of the Proposed Enhanced Activities to MCH Surveillance:

Describe the merit of the enhanced activities in terms of reaching special populations, using alternative methodologies, or expanding knowledge about MCH issues.

4. Timetable:

Provide a general time-line of major milestones for the project period and a schedule of activities for the first 12 months of the project period.

5. Budget:

Provide a detailed budget and line-item justification of all operating expenses that is consistent with the planned activities of the project. Address funds requested, as well as in-kind or direct support.

For Category C (Alternative Methodologies):

1. Background and Need:

a. Describe the composition of the birth population, giving the numbers of overall births and births in each sub-population of interest. Describe the scope and severity of the problems of poor pregnancy outcomes, including infant mortality, low birth weight, and related risk factors such as inadequate prenatal care or unintended pregnancy. This may apply on a State-wide basis or to high risk sub-populations in defined geographical areas and may be assessed in relationship to relevant national rates, Maternal and Child Health Bureau indicators, or the “Healthy People 2010 Objectives.”

b. Describe the reproductive health and maternal and child health priorities for the State and how PRAMS data can be integrated into the State's activities to address those priorities.

c. Identify gaps in needed information concerning adverse pregnancy and infant outcomes, pregnancy and infant health risk factors, and provide a description of how PRAMS data may be used to fill these gaps.

d. Describe how data from PRAMS will complement the analyses of vital records by increasing understanding of previously identified maternal and infant health problems and identifying new problems.

e. Describe how a point-in-time survey would meet your needs (e.g., a small birth population, lack of electronic birth records, inadequate resources to maintain ongoing surveillance).

2. Profile of State Birth Registration Process (if more than one State is involved, provide the following information for each State):

a. Describe, in detail, the State process for registering births. Include each step from collection of information at the birth site to availability of a clean, edited file from which other information can be drawn. Present a time line for the cleaning of critical variables, such as name, address, and date of birth. Document that the sample could be drawn from birth certificate information within 2 to 4 months after the date of birth. Describe any validity and reliability studies that have been conducted on birth certificate data.

b. Describe any State laws or policies that place restrictions on the release of vital records data for research purposes and indicate the impact of these laws or policies on PRAMS.

3. Plan of Operation:

a. Describe how and when the major project components, such as sampling, mail and telephone data collection procedures, data analysis, staffing plan, protocol development, advisory committee, will be developed and implemented. Include details of proposed sample size and sampling scheme.

b. Provide any available data that describe the extent to which the data collection approach is likely to produce adequate response rates among the sampled population, including high-risk sub-populations. Provide examples of previous surveys, including past experiences with PRAMS or other data collection activities, and their response rates in the proposed populations.

c. Describe and provide for the inclusion of women, racial, and ethnic minority populations in the proposed project to include:

(1) The proposed plan for the inclusion of women, racial, and ethnic minority populations for appropriate representation.

(2) The proposed justification when representation is limited or absent.

(3) A statement whether the design of the study is adequate to measure differences when warranted.

(4) A statement whether the plans for recruitment and outreach for study participants include the process of establishing partnerships with communities and recognition of mutual benefits.

d. Describe the roles, responsibilities, and supervision of key personnel who will be contributing to the PRAMS program. Document the relevant expertise and experience of proposed personnel involved in PRAMS program direction, operational management, and data analysis and dissemination, and their placement within the organization.

e. Describe the specific roles and responsibilities of participating organizational units, such as MCH, vital records, and data processing units. Provide an organizational chart that shows the proposed location of units that participate in PRAMS.

f. Describe a plan for data analysis that integrates the MCH priorities previously identified that can be addressed by PRAMS.

g. Describe how findings from PRAMS analyses will be disseminated through various channels, including advisory committee members, health policy makers, and health providers and translated into public health action. Provide a description of existing partnerships and how findings from previous studies have been disseminated. Identify future partnerships for dissemination and translation activities.

4. Timetable:

Provide a general time-line of major milestones for the project period and a schedule of activities for the entire three years of the project period.

5. Budget:

Provide a detailed budget and line-item justification of all operating expenses that is consistent with the planned activities of the project. Address funds requested, as well as in-kind or direct support. Indicate if funds are already committed to PRAMS and adjust the amount requested under this announcement accordingly.

F. Submission and Deadline

Application

Submit the original and two copies of CDC 0.1246. Forms are available at the following Internet address: www.cdc.gov/od/pgo/forminfo.htm. On or before January 12, 2001, submit the application to the Grants Management Specialist identified in the “Where to Obtain Additional Information” section of this announcement.

Deadline: Applications shall be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks shall not be acceptable as proof of timely mailing.)

Late Applications: Applications that do not meet the criteria in 1 or 2 above are considered late applications, will not be considered, and will be returned to the applicant.

G. Evaluation Criteria

Each application will be evaluated individually against the following criteria by an independent review group appointed by CDC. Application for each category will be evaluated separately against the criteria as listed below.

For Category A (Core activities, New States) (Total 100 points):

1. Background and Need (25 points):

a. The extent to which problems of poor pregnancy outcome exist, their severity, and whether they exist on a Statewide basis, within high-risk sub-populations, or defined geographical areas, and may be assessed in relation to relevant national rates, the Maternal and Child Health Bureau indicators, and the “Healthy People 2010 Objectives” (5 points).

b. The programmatic relevance of PRAMS data to the reproductive health and maternal and child health program priorities (8 points).

c. The extent to which the applicant describes the surveillance information needed and how it may be used for health program planning, policy development, and resource allocation (7 points).

d. The extent to which the applicant has used vital records data or other data sources, (e.g., infant deaths, WIC, Medicaid, or PRAMS) to identify and analyze maternal and infant health problems (5 points).

2. Profile of State Birth Registration Process (30 points):

a. The extent to which the process is thorough; birth certificate information is computerized, edited, and available for sampling within 2 to 4 months after date of birth (10 points).

b. The extent to which vital records information schedule provides timely access for sample evaluation and weighting (7 points).

c. The extent to which the applicant can link to other data sources (e.g., infant deaths, WIC, Medicaid) (3 points).

d. The extent to which State laws and policies support the release of vital records data for surveillance purposes (5 points).

e. The extent to which the Vital Records Unit has a plan for dealing with the upcoming revision of the birth certificate (5 points).

3. Plan of Operation (40 points):

a. The adequacy of the plan to carry out major project components (i.e., sampling, mail and telephone operations, data analysis, staffing plan, protocol development, steering committee) (10 points).

b. The extent to which the sampling method appears appropriate and likely to produce adequate response rates among the sampled populations. Applicants have provided evidence of previous experience, including PRAMS, with the sample populations. (10 points).

c. The degree to which the applicant has met the CDC Policy requirements regarding the inclusion of women, ethnic, and racial groups (4 points). This includes:

(1) The proposed plan for the inclusion of women, racial, and ethnic minority populations for appropriate representation.

(2) The proposed justification when representation is limited or absent.

(3) A statement as to whether the design of the study is adequate to measure differences when warranted.

(4) A statement as to whether the plans for recruitment and outreach for study participants include the process of establishing partnerships with communities and recognition of mutual benefits.

d. The extent to which the roles and responsibilities for organizational units, such as MCH, vital records, and data processing units; and key personnel and their expertise and experience, are documented and appear reasonable and appropriate; and whether two full-time equivalents are committed to working on PRAMS (8 points).

e. The extent to which the plan for data analysis assures attention to reproductive health and MCH priorities, dissemination of findings through multiple channels, to include steering committee members, health policy makers, and health providers and formation of partnerships for dissemination and translation activities (8 points).

4. Timetable (5 Points):

The extent to which the timetable incorporates major PRAMS activities and milestones and is specific, measurable, and realistic.

5. Budget (Not Scored):

The extent to which the budget is detailed, clear, justified, provides in-kind or direct project support, and is consistent with the proposed program activities.

For Category A (Core activities, Existing States) (Total 100 points):

1. Background and Need (5 points):

a. The extent to which problems of poor pregnancy outcome exist, their severity, and whether they exist on a Statewide basis, within high-risk sub-populations, or defined geographical areas, and may be assessed in relationship to relevant national rates, Maternal and Child Health Bureau indicators, or “Healthy People 2010 Objectives”.

b. The programmatic relevance of PRAMS data to reproductive health and maternal and child health program priorities.

c. The extent to which the applicant describes the surveillance information needed and how it may be used for health program planning, policy development, and resource allocation.

d. The extent to which the applicant has used vital records data, PRAMS, or other data sources, (e.g., infant deaths, WIC, and Medicaid) to identify and analyze maternal and infant health problems.

2. Capacity (30 points):

Note: States that entered PRAMS under the program announcement 99070 and do not yet have their first year's analytic data set will only be scored on criteria a through d. The scores for these States will be: a (20 points); b (5 points); and c (5 points).

a. The extent to which the applicant describes the progress to date in carrying out PRAMS operational activities including a discussion of any barriers that precluded complete and successful implementation of the project (8 points).

b. The extent to which the program has remained fully staffed with vacancies minimized and the extent to which staff contributions, roles, time, and accomplishments in support of the PRAMS program appear reasonable and appropriate (3 points).

c. The extent to which the applicant has maintained minimal levels of response (70 percent) overall and strata-specific (5 points).

d. The extent to which the available PRAMS data have been analyzed and linkages have been made with other data sources (6 points).

e. The extent to which PRAMS data have been used for program planning, policy development, and resource allocation. Specific examples of dissemination and translation have been shared and partners in these activities identified (8 points).

3. Profile of State Birth Registration Process (20 points):

a. The extent to which the process is thorough; birth certificate information is computerized, edited, and available for sampling within 2 to 4 months after date of birth (6 points).

b. The extent to which the vital records information schedule provides timely access for sample evaluation and weighting (6 points).

c. The extent to which applicant can link to other data sources (e.g., infant deaths, WIC, Medicaid) (2 points).

d. The extent to which State laws and policies support the release of vital records data for surveillance purposes (3 points).

e. The extent to which the Vital Records Unit has a plan for dealing with the upcoming revision of the birth certificate (3 points).

4. Plan of Operation (40 points):

a. The adequacy of the plan to carry out major project components (i.e., sampling, mail and telephone operations, data analysis, staffing plan, protocol development, steering committee) (8 points).

b. The extent to which the sampling method appears appropriate and likely to produce adequate response rates among the sampled populations. Applicant has provided evidence of previous experiences, including PRAMS, with the sampled populations (8 points).

c. The degree to which the applicant has met the CDC Policy requirements regarding the inclusion of women, ethnic, and racial groups (4 points). This includes:

(1) The proposed plan for the inclusion of women, racial, and ethnic minority populations for appropriate representation.

(2) The proposed justification when representation is limited or absent.

(3) A statement as to whether the design of the study is adequate to measure differences when warranted.

(4) A statement as to whether the plans for recruitment and outreach for study participants include the process of establishing partnerships with communities and recognition of mutual benefits.

d. The extent to which the roles and responsibilities for organizational units, such as MCH, vital records, and data processing units; and key personnel and their expertise and experience, are documented and appear reasonable and appropriate; and whether two full-time equivalents are committed to working on PRAMS (10 points).

e. The extent to which the plan for data analysis assures the attention to reproductive health and MCH priorities, dissemination of findings through multiple channels, to include steering committee members, health policy makers, and health providers and formation of partnerships for dissemination and translation activities (10 points).

5. Timetable (5 Points):

The extent to which the timetable incorporates major PRAMS activities and milestones and is specific, measurable, and realistic.

6. Budget (Not Scored):

The extent to which the budget is detailed, clear, justified, provides in-kind or direct project support, and is consistent with the proposed program activities.

For Category B (Enhanced Activities, New or Existing States) (Total 100 points):

1. Background and Need (20 points):

a. The extent to which the rationale for conducting the enhanced activities is appropriate (8 points).

b. The programmatic relevance of the enhanced activities in terms of the State's maternal and infant health program priorities is evident (6 points).

c. The extent to which the applicant describes how the information gained from the enhanced activities may be used for health program planning, policy development, and resource allocation (6 points).

2. Plan of Operation (60 points):

a. The adequacy of the plan to carry out major project components (i.e., staffing, sampling, design, methodology, data analysis, data dissemination and translation, and advisory committee) (10 points).

b. The extent to which special features of the enhanced activities are described and enhanced activities interface smoothly with the core PRAMS activities (10 points).

c. The extent to which the applicant has adequately described the study population and the degree to which the applicant has met the CDC Policy requirements regarding the inclusion of women, ethnic, and racial groups in the proposed research (4 points). This includes:

(1) The proposed plan for the inclusion of women, racial, and ethnic minority populations for appropriate representation.

(2) The proposed justification when representation is limited or absent.

(3) A statement as to whether the design of the study is adequate to measure differences when warranted.

(4) A statement as to whether the plans for recruitment and outreach for study participants include the process of establishing partnerships with communities and recognition of mutual benefits.

d. The extent to which the data collection process has been adequately described including the data collection instruments, data sources, persons responsible for collecting data, and steps involved (8 points).

e. The extent to which the plan for obtaining resources and expertise to carry out the enhanced activities is detailed and appropriate (8 points).

f. The extent to which the composition of the advisory committee and the roles, responsibilities, and supervision of key personnel contributing to the enhanced activities and their expertise and experience are documented and appear reasonable and appropriate (5 points).

g. The extent to which specific roles and responsibilities of any additional participating organizational units or groups are documented and appropriate (5 points).

h. The extent to which the plan for data analysis integrates the MCH priorities for the targeted special populations (5 points).

i. The extent to which findings from analyses will be disseminated through multiple channels and translated into public health action (5 points).

3. Applicability (15 points):

The extent to which the enhanced activities will add to MCH surveillance in terms of reaching special populations, utilizing alternative methodologies, or expanding knowledge about MCH issues.

4. Timetable (5 points):

The extent to which the timetable incorporates major PRAMS activities and milestones and is specific, measurable, and realistic.

5. Budget (not scored):

The extent to which the budget is detailed, clear, justified, provides in-kind or direct project support, and is consistent with the proposed program activities.

6. Human Subjects: (not scored):

Does the application include a plan to adequately address the requirements of Title 45 CFR Part 46 for the protection of human subjects (see AR-1 below)?

For Category C (Alternative Methodologies) (Total 100 points):

1. Background and Need (35 points):

a. The extent to which problems of poor pregnancy outcome exist, their severity, and whether they exist on a State-wide basis, within high-risk sub-populations, or defined geographical areas, and may be assessed in relationship to relevant national rates, the Maternal and Child Health Bureau indicators, and the “Healthy People 2010 Objectives” (5 points).

b. The programmatic relevance of PRAMS data to the reproductive health and maternal and child health program priorities (8 points).

c. The extent to which the applicant describes the surveillance information needed and how it may be used for health program planning, policy development, and resource allocation (7 points).

d. The extent to which the applicant has used vital records data or other data sources, (e.g., infant deaths, WIC, Medicaid, or PRAMS) to identify and analyze maternal and infant health problems (5 points).

e. The extent to which a point-in-time survey methodology is justified and appropriate, such as a small birth population, lack of electronic birth records, or inadequate resources to maintain ongoing surveillance. (10 points)

2. Profile of State Birth Registration Process (20 points):

a. The extent to which the process is thoroughly documented; birth certificate information is cleaned, edited, and available for sampling within 2 to 4 months after date of birth (15 points).

b. The extent to which the State laws and policies support the release of vital records data for surveillance purposes (5 points).

3. Plan of Operation (40 points):

a. The adequacy of the plan to carry out major project components (i.e., sampling, mail and telephone operations, data analysis, staffing plan, protocol development, steering committee) (10 points).

b. The extent to which the sampling method appears appropriate and likely to produce adequate response rates among the sampled populations. Applicant has provided evidence of previous experiences with the sampled populations (10 points).

c. The degree to which the applicant has met the CDC Policy requirements regarding the inclusion of women, ethnic, and racial groups (4 points). This includes:

(1) The proposed plan for the inclusion of women, racial, and ethnic minority populations for appropriate representation.

(2) The proposed justification when representation is limited or absent.

(3) A statement as to whether the design of the study is adequate to measure differences when warranted.

(4) A statement as to whether the plans for recruitment and outreach for study participants include the process of establishing partnerships with communities and recognition of mutual benefits.

d. The extent to which the roles and responsibilities for organizational units, such as MCH, vital records, and data processing units; and key personnel and their expertise and experience, are documented and appear reasonable and appropriate; and whether sufficient staff are committed to working on PRAMS (8 points).

e. The extent to which the plan for data analysis assures attention to reproductive health and MCH priorities, dissemination of findings through multiple channels, to include steering committee members, health policy makers, and health providers and formation of partnerships for dissemination and translation activities (8 points).

4. Timetable (5 Points):

The extent to which the timetable incorporates major PRAMS activities and milestones and is specific, measurable, and realistic.

5. Budget (Not Scored):

The extent to which the budget is detailed, clear, justified, provides in-kind or direct project support, and is consistent with the proposed program activities.

H. Other Requirements

Technical Reporting Requirements

Provide CDC with original plus two copies of:

1. progress report, no more than 90 days after the end of the budget period;

2. financial status report, no more than 90 days after the end of the budget period; and

3. final financial and performance reports, no more than 90 days after the end of the project period.

Send all reports to the Grants Management Specialist identified in the “Where to Obtain Additional Information” section of this announcement.

The following additional requirements are applicable to this program. For a complete description of each, see Attachment I in the application kit.

AR-1 Human Subjects Requirements

AR-2 Requirements for Inclusion of Women and Racial and Ethnic Minorities in Research

AR-7 Executive Order 12372 Review

AR-9 Paperwork Reduction Act Requirements

AR-10 Smoke-Free Workplace Requirements

AR-11 Healthy People 2010

AR-12 Lobbying Restrictions

I. Authority and Catalog of Federal Domestic Assistance Number

This program is authorized under sections 301(a) and 317(k) of the Public Health Service Act, [42 U.S.C. sections 241(a) and 247b(k)], as amended. The Catalog of Federal Domestic Assistance number is 93.283.

J. Where To Obtain Additional Information

This and other CDC announcements can be found on the CDC home page Internet address—http://www.cdc.gov Click on “Funding” then “Grants and Cooperative Agreements.”

To obtain additional information, contact:

Van A. King, Grants Management Specialist, Grants Management Branch, Procurement and Grants Office, Announcement 01010, Centers for Disease Control and Prevention (CDC), 2920 Brandywine Road, Room 3000, Atlanta, GA 30341-4146, Telephone: (770) 488-2751, Email Address: vbk5@cdc.gov

For program technical assistance, contact:

Mary M. Rogers, Dr. P.H., Project Officer, PRAMS, Division of Reproductive Health, National Center for Chronic Disease Prevention and Health Promotion (NCCDPHP), 4770 Buford Highway, NE, MS K-22, Atlanta, Georgia 30341, Telephone: (770) 488-5220, E-Mail Address: mjr3@cdc.gov

Dated: October 16, 2000.
Sandra Manning,
Acting Director, Procurement and Grants Office, Centers for Disease Control and Prevention (CDC).

[FR Doc. 00-27303 Filed 10-23-00; 8:45 am]

BILLING CODE 4163-18-P